FEDERAL RESERVE SYSTEM

Formations of, Acquisitions by, and Mergers of Bank Holding Companies; Correction

This notice corrects a notice (FR Doc. 05-13724) published on page 40364 of the issue for Wednesday, July 13, 2005.

Under the Federal Reserve Bank of St. Louis heading, the entry for Union Bankshares, Inc., Mena, Arizona, is revised to read as follows:

A. Federal Reserve Bank of St. Louis (Glenda Wilson, Community Affairs Officer) 411 Locust Street, St. Louis, Missouri 63166-2034:

1. Union Bankshares, Inc., Mena, Arizona; to acquire 100 percent of the voting shares of First Paris Holding Company, Little Rock, Arkansas, and thereby indirectly acquire voting shares of The First National Bank at Paris, Paris, Arkansas.

Comments on this application must be received by August 8, 2005.

Board of Governors of the Federal Reserve System, July 14, 2005.
Robert deV. Frierson,
Deputy Secretary of the Board.

[FR Doc. 05-14205 Filed 7-19-05; 8:45 am]

BILLING CODE 6210-01-S